DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2008 Company Organization Survey.

Form Number(s): NC-99001, NC-99007.

OMB Control Number: 0607-0444.

Type of Request: Revision of a currently approved collection.

Burden Hours: 127,517.

Number of Respondents: 48,000.

Average Hours Per Response: 2 hours and 40 minutes.

Needs and Uses: The Census Bureau conducts the annual Company Organization Survey (COS) in order to update and maintain a central, multipurpose Business Register (BR). In particular, the COS supplies critical information on the organizational structure, operating characteristics, and employment and payroll of multi-location enterprises.

The 2008 COS will direct inquiries to multi-establishment enterprises and selected single-establishment companies. The 2008 COS collection will differ from 2007 in the following ways: due to the 2007 COS being conducted in coordination with the 2007 Economic Census, the 2008 COS has decreased its sample size by about 50%, however, with more detailed inquiries being added (revision to the research and development question) to the 2008 COS and the inclusion of form, NC-99007 (only for single unit establishments), there will be an overall increase in the reporting response burden. Note that we will also mail Form NC-99001 for the 2008 COS.

Form NC-99001 is mailed to multi-location enterprises. We ask questions on ownership or control by a domestic parent, ownership or control by a foreign parent, and ownership of foreign affiliates; research and development, and employees from a professional employer organization. Establishment inquiries include questions on operational status, mid-March employment, first-quarter payroll, and annual payroll of the establishments.

In addition to the mailing of multi-location enterprises, the Census Bureau will mail Form NC-99007 to some large single-location enterprises that may have added locations. Form NC-99007 contains questions on ownership and control by a domestic company, number of locations of operation, physical location, locations of operation, and inquiries on mid-March employment, first-quarter payroll, and annual payroll for each separate location.

The information collected by the COS is used to maintain and update the BR. The BR serves two fundamental purposes: First and most important, it provides sampling populations and enumeration lists for the Census Bureau's economic surveys and censuses, and it serves as an integral part of the statistical foundation underlying those programs. Essential for this purpose is the BR's ability to identify all known United States business establishments and their parent companies. Further, the BR must accurately record basic business attributes needed to control sampling and enumeration. These attributes include industrial and geographic classifications, measures of size and economic activity, ownership characteristics, and contact information (for example, name and address).

Second, it provides establishment data that serve as the basis for the annual County Business Patterns (CBP) statistical series. The CBP reports present data on number of establishments, first quarter payroll, annual payroll, and mid-March employment summarized by industry and employment size class for the United States, the District of Columbia, Puerto Rico, counties, and county-equivalents. No other annual or more frequent series of industry statistics provides comparable detail, particularly for small geographic areas.

Affected Public: Business or other for-profit organizations, Not-for-profit institutions, Farms, and State, Local or Tribal Government.

Frequency: Annually.

Respondent's Obligation: Mandatory.

Legal Authority: Title 13 U.S.C., Sections 182, 195, 224 and 225.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: September 3, 2008.
Gwellnar Banks,
Management Analyst, Office of the Chief Information Officer.

[FR Doc. E8-20780 Filed 9-8-08; 8:45 am]

BILLING CODE 3510-07-P